Proclamation 9050 of October 31, 2013

National Alzheimer's Disease Awareness Month, 2013

By the President of the United States of America

A Proclamation

Alzheimer's disease is an irreversible and progressive brain disease that slowly erodes precious memories, thinking skills, and the ability to perform simple tasks. It affects millions of Americans, including senior citizens as well as younger Americans with early-onset Alzheimer's disease. This month, we stand with everyone confronting the painful reality of an Alzheimer's diagnosis; lend our support to the families who care for them; and renew our commitment to delaying, preventing, and ultimately curing this disease.

In research labs across our country and around the world, scientists are working to unlock the answers to Alzheimer's disease. My Administration proudly supports this promising research. Earlier this year, I proposed the Brain Research through Advancing Innovative Neurotechnologies (BRAIN) Initiative, which aims to revolutionize our understanding of the human brain. By mapping the brain, we hope to better comprehend the causes of disorders like Alzheimer's disease and enhance our work on improving treatment. In September, the National Institutes of Health announced support for innovative new studies to help find effective interventions for this devastating degenerative brain disease. And my Administration also remains committed to implementing the first-ever National Plan to Address Alzheimer's Disease, which lays out a roadmap to preventing and effectively treating Alzheimer's disease by 2025.

Working together with scientists, patient advocates, and those living with this disease, we can give a sense of hope to millions of families, patients, and caregivers. For resources and information on living with or caring for someone with Alzheimer's disease, please visit www.Alzheimers.gov.

As we offer our support to Americans with Alzheimer's disease, we also recognize those who care and provide for them, sharing their loved ones' emotional, physical, and financial strains. This month, we honor their compassion, remember those we have lost, and press toward the next great scientific breakthrough.

NOW, THEREFORE, I, BARACK OBAMA, President of the United States of America, by virtue of the authority vested in me by the Constitution and the laws of the United States, do hereby proclaim November 2013 as National Alzheimer's Disease Awareness Month. I call upon the people of the United States to learn more about Alzheimer's disease and support the individuals living with this disease and their caregivers.

IN WITNESS WHEREOF, I have hereunto set my hand this thirty-first day of October, in the year of our Lord two thousand thirteen, and of the Independence of the United States of America the two hundred and thirty-eighth.

[FR Doc. 2013-26670

Filed 11-4-13; 11:15 am]

Billing code 3295-F4